NATIONAL SCIENCE FOUNDATION

Notice of Permit Applications Received Under the Antarctic Conservation Act of 1978 (Pub. L. 95-541)

AGENCY: National Science Foundation.

ACTION: Notice of permit applications received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 2, 2009. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

Permit Application No. 2010-008

1. Applicant: Carlos Gutierrez, One Discovery Place, Silver Spring, MD 20910-3354.

Activity for Which Permit Is Requested

Enter Antarctic Specially Protected Areas. The applicant plans to enter Cape Royds (ASPA 121), Cape Crozier (ASPA 124), Tramway Ridge (ASPA 130), Cape Evans (ASPA 155), and Backdoor Bay (ASPA 157) to film Adelie penguins, scientists working on Mount Erebus to capture key science and wildlife stories for the Discovery/BBC series, “Frozen Planet”.

Location

Cape Royds (ASPA 121), Cape Crozier (ASPA 124), Tramway Ridge (ASPA 130), Cape Evans (ASPA 155), and Backdoor Bay (ASPA 157).

Dates

October 12, 2009 to January 25, 2010.

Permit Application No. 2010-009

2. Applicant: Alexander Ray Simms, Boone Pickens School of Geology, Oklahoma State University, 105 NRC, Stillwater, OK 74078.

Activity for Which Permit Is Requested

Enter Antarctic Specially Protected Areas. The applicant plans to enter Emperor Island, Dion Islands (ASPA 107), Lagotellerie Island (ASPA 115), Avian Island (ASPA 117), Rothera Point, Adelaide Island (ASPA 147), Ablation Valley, Ganymede Heights (ASPA 147), Green Island (ASPA 108), Litchfield Island (ASPA 113), Biscoe Point (ASPA 139), South Bay, Doumer Island (ASPA 146), East Dallman Bay (ASPA 153), Cierva Point (ASPA 134), Western Bransfield Strait (ASPA 152), Mount Flora, Hope Bay (ASPA 148), Byers Peninsula (ASPA 126), Port Foster (ASPA 145), Deception Island (ASPA 140), Cape Shirreff (ASPA 149), Potter Peninsula (ASPA 132), Western Shore Admiralty Bay (ASPA 128), Lions Rump (ASPA 151), Chile Bay (Discovery Bay) (ASPA 144), Coppermine Peninsula (ASPA 112), Harmony Point (ASPA 133), Ardley Island (ASPA 150), and Fildes Peninsula (ASPA 125) to collect surface samples and rocks from the beaches in order to reconstruct the record of sea-level changes over the last 10,000 years. A sea-level history from multiple sites across the Antarctic Peninsula will allow the applicant to test models of the ice sheet and its response to past sea-level and climate change.

Location

Cape Royds (ASPA 121), Cape Crozier (ASPA 124), Tramway Ridge (ASPA 130), Cape Evans (ASPA 155), and Backdoor Bay (ASPA 157).

Dates

February 15, 2010 to May 15, 2010.

Nadene G. Kennedy,
Permit Officer, Office of Polar Programs.

[FR Doc. E9-21118 Filed 9-1-09; 8:45 am]

BILLING CODE 7555-01-P